ENVIRONMENTAL PROTECTION AGENCY

[RCRA-2002-0024; FRL-7553-7]

Agency Information Collection Activities; Submission to OMB for Review and Approval; Comment Request; The 2003 Hazardous Waste Report, EPA ICR Number 0976.11, OMB Control Number 2050-0024

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a renewal of an existing approved collection. This ICR is scheduled to expire on June 30, 2003. Under OMB regulations, the Agency may continue to conduct or sponsor the collection of information while this submission is pending at OMB. This ICR describes the nature of the information collection and its estimated burden and cost.

DATES: Additional comments may be submitted on or before October 6, 2003.

ADDRESSES: Submit your comments, referencing docket ID number RCRA-2002-0024, to (1) EPA online using EDOCKET (our preferred method), by e-mail to RCRA-docket@epa.gov, or by mail to: EPA Docket Center, Environmental Protection Agency, RCRA Docket, Mail Code 5305T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Dave Levy, Office of Solid Waste, Mail Code 5303W, Environmental Protection Agency, 1200 Pennsylvania Ave., NW., Washington, DC 20460; telephone number: 703-308-8479; fax number: 703-308-8433; e-mail address: levy.dave@epa.gov.

SUPPLEMENTARY INFORMATION: EPA has submitted the following ICR to OMB for review and approval according to the procedures prescribed in 5 CFR 1320.12. On March 18, 2003 (68 FR 12902), EPA sought comments on this ICR pursuant to 5 CFR 1320.8(d). EPA has addressed the comments received.

EPA has established a public docket for this ICR under Docket ID No. RCRA-2002-0024, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket.

Please use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: The 2003 Hazardous Waste Report.

Abstract: This ICR renews an ongoing information collection from hazardous waste generators and hazardous waste treatment, storage, or disposal facilities. This collection is done on a two-year cycle as required by sections 3002 and 3004 of the Resource Conservation and Recovery Act (RCRA). The information is collected via a mechanism known as the Hazardous Waste Report for the required reporting year (EPA Form 8700-13 A/B)(also known as the Biennial Report). Both RCRA sections 3002 and 3004 require EPA to establish standards for recordkeeping and reporting of hazardous waste. Section 3002 applies to hazardous waste generators and section 3004 applies to hazardous waste treatment, storage, and disposal facilities. The implementing regulations are found at 40 CFR 262.40(b) and (d); 262.41(a)(1)-(5), (a)(8), and (b); 264.75(a)-(e) and (j); 265.75(a)-(e) and (j); and 270.30(l)(9). This is mandatory reporting by the respondents.

The respondents' submissions (reports) describe each generated hazardous waste, the activity by which they generated the waste, and the waste quantity; the reports also list the management method by which each waste is treated, recycled, or disposed and the quantity managed. There are a number of uses of Biennial Report data. EPA uses Biennial Report data for planning and developing regulations, compliance monitoring, and enforcement. Also, Biennial Report data allows the Agency to determine whether its regulations are having the desired effect on the generation and management of hazardous waste. For example, Biennial Report data provides information on whether waste management has shifted from one method of disposal to another. Some State uses of Report data include support of planning, fee assessment, compliance monitoring, and enforcement.

Some businesses consider some of their hazardous waste information to be Confidential Business Information (CBI). A business may, if it desires, protect its Biennial Report information from public disclosure by asserting a claim of confidentiality covering all or part of its information. When a claim is made EPA will treat the information in accordance with the confidentiality regulations in 40 CFR part 2, subpart B. EPA also ensures that the information collection procedures comply with the Privacy Act of 1974 and OMB Circular 108.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average about 19 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Those facilities which generate, treat, store, recycle, or dispose of hazardous waste.

Estimated Number of Respondents: 10,178.

Frequency of Response: Biennially.

Estimated Total Annual Hour Burden: 196,976.

Estimated Total Annual Cost: $10,311,438, includes $0 annualized capital and $25,336 O&M costs.

Changes in the Estimates: There is an increase of 8,352 hours in the total estimated burden currently identified in the OMB Inventory of Approved ICR Burdens. This increase is due to several reasons. Based on reported data for the 2001 Hazardous Waste Report, EPA estimates a slight increase in the number of respondents, an additional 42; we estimate the increase in the number of submitted forms to be 15,218. The completion of the RCRA Subtitle C Site Identification Form will require an estimated additional 20 minutes. This has resulted in a minor increase for those manually filling out the forms (resulting in an approximately one percent annual burden reduction to the regulated community overall).

Dated: August 12, 2003.
Doreen Sterling,
Acting Director, Collection Strategies Division.

[FR Doc. 03-22642 Filed 9-4-03; 8:45 am]

BILLING CODE 6560-50-P